DEPARTMENT OF THE INTERIOR

National Park Service

[NPS-WASO-NAGPRA-19927; PPWOCRADN0-PCU00RP14.R50000]

Notice of Inventory Completion: The American Museum of Natural History, New York, NY

AGENCY: National Park Service, Interior.

ACTION: Notice.

SUMMARY: The American Museum of Natural History has completed an inventory of human remains in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the American Museum of Natural History. If no additional requestors come forward, transfer of control of the human remains to the Indian tribes or Native Hawaiian organizations stated in this notice may proceed.

DATES: Representatives of any Indian tribe or Native Hawaiian organization not identified in this notice that wish to request transfer of control of these human remains should submit a written request with information in support of the request to the American Museum of Natural History at the address in this notice by February 8, 2016.

ADDRESSES: Nell Murphy, Director of Cultural Resources, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the completion of an inventory of human remains under the control of the American Museum of Natural History, New York, NY. The human remains were removed from San Juan County, WA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the American Museum of Natural History professional staff in consultation with representatives of the Lummi Tribe of the Lummi Reservation and the Suquamish Indian Tribe of the Port Madison Reservation (hereinafter referred to as “The Tribes”).

History and Description of the Remains

In an unknown year, human remains representing, at minimum, one individual were removed from the Jack Allen property, Waldron Island, San Juan County, WA. The human remains were collected by an unknown individual from the surface after ploughing. The human remains were identified as adult of indeterminate gender. The American Museum of Natural History accessioned these human remains as a gift from Miss June Wetherell Frame, in 1959. No known individuals were identified. No associated funerary objects are present.

Determinations Made by the American Museum of Natural History

Officials of the American Museum of Natural History have determined that:

• Pursuant to 25 U.S.C. 3001(9), the human remains described in this notice are Native American based on the presence of cranial deformation.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission, the Court of Federal Claims, Treaties, Acts of Congress, and Executive Orders the land from which the Native American human remains were removed is the aboriginal land of The Tribes.

• Pursuant to 43 CFR 10.11(c)(1), the disposition of the human remains may be to The Tribes.

Additional Requestors and Disposition

Representatives of any Indian tribe or Native Hawaiian organization not identified in this notice that wish to request transfer of control of these human remains should submit a written request with information in support of the request to Nell Murphy, Director of Cultural Resources, American Museum of Natural History, Central Park West at 79th Street, NY, NY 10024, 212-769-5837, email nmurphy@amnh.org, by February 8, 2016. After that date, if no additional requestors have come forward, transfer of control of the human remains to The Tribes may proceed.

The American Museum of Natural History is responsible for notifying The Tribes that this notice has been published.

Dated: December 8, 2015.
Amberleigh Malone,
Acting Manager, National NAGPRA Program.

[FR Doc. 2016-00052 Filed 1-6-16; 8:45 am]

BILLING CODE 4312-50-P